FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
012345N | Home Run Shipping International, Inc., 420 W. Merrick Road, Valley Stream, NY 11580-0459 | November 18, 2005.
019170N | Seabound Freight, LLC, 12972 133rd Court, Suite A, Miami, FL 33186 | October 30, 2005.

Peter J. King,
Deputy Director, Bureau of Certification and Licensing.

[FR Doc. E6-3753 Filed 3-14-06; 8:45 am]

BILLING CODE 6730-01-P